EXPORT-IMPORT BANK OF THE UNITED STATES

Review of Proposed Guidelines for Assessing Additionality Related To Providing EXIM's Support for Medium and Long Term Export Transactions; Extension of Comment Period

On September 9, 2019, EXIM announced its proposed guidelines for determining Additionality on requests the Bank receives to support export transactions with repayment amortizing over the medium or long term and invited public comment on FR Doc. 2019-19345 within 30 days of the date the notice appeared in the Federal Register. EXIM is extending the comment period on FR Doc. 2019-19345 an additional 15 days to October 23, 2019. The proposed guidelines can be viewed at: https://www.exim.gov/Additionality.guidance. Interested parties may submit comments to additionality.review@exim.gov or by mail to 811 Vermont Avenue NW, Room

Joyce Stone,
Program Specialist, Office of the General Counsel.

[FR Doc. 2019-22362 Filed 10-11-19; 8:45 am]

BILLING CODE 6690-01-P